DEPARTMENT OF COMMERCE

Economic Development Administration

Notice of Petitions by Firms for Determination of Eligibility To Apply for Trade Adjustment Assistance

AGENCY: Department of Commerce, Economic Development Administration.

ACTION: Notice and Opportunity for Public Comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received By EDA for Certification of Eligibility to Apply for Trade Adjustment Assistance
[5/13/2011 through 6/23/2011]
Firm name | Address | Date accepted for investigation | Products
AMZ Corporation | 2206 Pennsylvania Avenue, York, PA 17404 | 6/21/2011 | The firm manufactures plated finishes, to ASTM and military specifications as well as individual requirements.
PWI, Inc. | 109 South Knight Street, Wichita, KS 67213 | 5/31/2011 | The firm provides customized lighting systems ranging from LED to hot/cold cathode fluorescent lights.
Sharpe Mixers, Inc. | 1541 South 92nd Place, Suite A, Seattle, WA 98108-5116 | 5/18/2011 | The firm manufactures raw materials and component parts for custom-designed portable mixers lines.
Top Tool Company | 3100 84th Lane Northeast, Minneapolis, MN 55449-7264 | 6/16/2011 | The firm manufactures complex micro miniature dies and stamped components.
Victoria Precision, Inc. | 410—C Clearview Avenue, Trevose, PA 19053 | 6/20/2011 | The firm specializes in close tolerance form grinding and milling, prototype work, production runs, product designing, progressive dies, molds, and jig fixtures.
WP Manufacturing, Inc. DBA WP Instruments, Inc. | 802 South Sherman Street, Building B, Longmont, CO 80501 | 6/16/2011 | The firm manufactures molds used for plastic injection tooling, injection molded plastic parts and assemblies.

Any party having a substantial interest in these proceedings may request a public hearing on the matter.

A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: June 23, 2011.
Sunni Massey,
Eligibility Certifier.

[FR Doc. 2011-16329 Filed 6-28-11; 8:45 am]

BILLING CODE 3510-WH-P